DEPARTMENT OF TRANSPORTATION

Federal Highway Administration

Environmental Impact Statement: San Benito County and Santa Clara County, California

AGENCY: Federal Highway Administration (FHWA), DOT.

ACTION: Notice of Intent.

SUMMARY: The FHWA, on behalf of the California Department of Transportation (Caltrans), is issuing this notice to advise the public that a TIER I Environmental Impact Statement (EIS) will be prepared for a proposed highway project and route adoption study in San Benito and Santa Clara Counties, California.

FOR FURTHER INFORMATION CONTACT: Bobi Lyon-Ritter, Senior Environmental Planner, Sierra Pacific Environmental Analysis Branch, Caltrans, 2015 E. Shields Avenue, Suite 100, Fresno, California 93726 or call (559) 243-8178.

SUPPLEMENTARY INFORMATION: Effective July 1, 2007, the Federal Highway Administration (FHWA) assigned, and the Caltrans assumed, environmental responsibilities for this project pursuant to 23 U.S.C. 327. Caltrans will prepare a Tier I EIS on a proposal for the eventual conversion of approximately 11 miles of the existing State Route 25 from two-lane conventional highway to a four-lane expressway in San Benito and Santa Clara counties in California. This TIER I EIS includes both a route adoption, which is a locational decision for future highways, and a proposed construction project within a portion of the proposed route adoption.

The route adoption extends from San Felipe Road within the City of Hollister (post mile 51.5) to the San Benito/Santa Clara County line (post mile 60.1) and on to the end of State Route 25 at U.S. 101 south of the City of Gilroy (post miles 0.0/2.56 in Santa Clara County).

Five alternatives are under consideration: Alternative 1 and Alternative 2 are route adoption alignments, and Alternative A and Alternative B are proposed build alternatives. The No Action alternative will also be considered.

Alternative 1 and Alternative 2, the route adoption alternatives, are approximately 11 miles long, and share the same alignment from the bend in Route 25 approximately 1.7 miles south of Shore Road (post mile 56.1) in San Benito County to U.S. 101 in Santa Clara County. Between the east end of the proposed project at San Felipe Road and post mile 56.1 in San Benito County the two alignment alternatives separate. Alternative 1 proposes to align the future four-lane expressway to the east (or north) of the existing two-lane north/south highway. Alternative 2 would be aligned to the west (or south) of the existing two-lane highway.

Both route adoption alternatives would accommodate a future:

• 342 foot wide four-lane expressway with a 62 foot median and frontage roads on either one or both sides.

• Interchange to replace the Route 25/Route 156 at-grade intersection.

• Route 25/Route 101 interchange to replace and be located north of the existing interchange.

As well as:

• New bridges over Carnadero Creek and the Pajaro River.

• New overheads to cross over the Union Pacific Railroad Hollister branch line and the Union Pacific main line just east of US101.

Alternative A and Alternative B, the build alternatives, would extend 3.8 miles in San Benito County, from San Felipe Road (post mile 51.5) to just west of Hudner Lane (post mile 55.3). Unlike the route adoption alternatives, the build alternatives propose a realigned and widened at-grade intersection at Route 25 and Route 156 instead of an interchange. Both construction alternatives would transition back to the existing two-lane highway near Hudner Lane.

Alternative A would be constructed at the southeastern end of the Alternative 1 route adoption alignment. Direct access to the expressway would be available from San Felipe Road, Wright Road, Flynn Road, two new west-side frontage roads, SR 156, and one new east-side frontage road. An undercrossing at the Don Chapin gravel operation driveway would provide access to this otherwise landlocked parcel.

Alternative B would be constructed at the southeastern end of the Alternative 2 route adoption alignment. Direct access to the expressway would be available from San Felipe Road, Wright Road, Briggs Road, two new west-side frontage roads, SR 156, and one new east-side frontage road.

The No Action Alternative would result in no action being taken and no further improvements would be made to State Route 25 within the Route Adoption limits other than those already programmed/funded or under construction. Improvements at the San Felipe Road/State Route 25 intersection are currently under construction in 2008 as part of the Route 25 Hollister Bypass Project. It is anticipated that work will begin early in 2009 on the Route 25 Safety and Operations Enhancement Project and will be completed by early 2010. Work will begin just south of Hudner Lane (post mile 55.1) and end just south of the Union Pacific Railroad Crossing (post mile 60.0) in San Benito County. Roadway widening will consist of two-10′ outside shoulders, two-12′ traveled lanes, two-5′ inside shoulders and placement of a temporary concrete median barrier. Rumble strips will be installed on all inside and outside shoulders. Hudner Lane and Shore Road intersections will be improved.

No Federal permits or approvals would be needed for either of the two route adoption alternatives or the two build alternatives. Future TIER II environmental documents for build projects proposed within the remaining segment of the route adoption alignment may require a section 404 permit from the U.S. Army Corps of Engineers; a section 7 Biological Opinion from the U.S. Fish and Wildlife Service; and a section 401 Permit from the Regional Water Quality Control Board.

Letters describing the proposed action and soliciting comments will be sent to appropriate Federal, State, and local agencies, and to private organizations and citizens who have previously expressed or are known to have interest in this proposal. In addition, a newsletter will be mailed separately, and updated information will be available on the project Web site http://www.dot.ca.gov/dist05/paffairs/hwy25widening/index.htm.

A public scoping meeting will be held on April 3, 2008 from 4:30 to 6:30 p.m. at R. O. Hardin Elementary School in Hollister, California to provide additional opportunities for public input on the proposed project.

Public outreach for the proposed project and preparation of an Environmental Assessment (EA) was initiated in 2001. A Public Information Meeting was held in December 2003. In December 2007 Caltrans decided to prepare a Tier I EIS instead of an EA. This document type gives Caltrans the ability to both secure an adopted route (locational decision for planning purposes) and to propose a stand-alone construction project for a segment of the adopted route.

Significant impacts to farmland are anticipated.

The public hearing will be held during circulation of the environmental document, which is expected to occur in Fall 2008. A Public Notice will be issued to announce the time and place of the hearing. The TIER I draft EIS will be available for public and agency review and comment prior to the public hearing.

To ensure that the full range of issues related to this proposed action are addressed and all significant issues identified, comments, and suggestions are invited from all interested parties. Comments or questions concerning this proposed action and the EIS should be directed to Caltrans at the address provided above.

(Catalog of Federal Domestic Assistance Program Number 20.205, Highway Planning and Construction. The regulations implementing Executive Order 12372 regarding intergovernmental consultation on Federal programs and activities apply to this program.)

Issued on: March 25, 2008.
Nancy Bobb,
Director, State Programs, Federal Highway Administration, Sacramento, California.

[FR Doc. E8-6607 Filed 3-31-08; 8:45 am]

BILLING CODE 4910-22-P